DEPARTMENT OF AGRICULTURE

Submission for OMB Review; Comment Request

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by January 25, 2024 will be considered. Written comments and recommendations for the proposed information collection should be submitted within 30 days of the publication of this notice on the following website www.reginfo.gov/public/do/PRAMain. Find this information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Food and Nutrition Service

Title: Assessment of Mobile Technologies for Using Supplemental Nutrition Assistance Program (SNAP) Benefits.

OMB Control Number: 0584-NEW.

Summary of Collection: The Supplemental Nutrition Assistance Program (SNAP) provides monthly benefits to low-income households to reduce food insecurity and improve health and well-being. Benefits are delivered via electronic benefit transfer (EBT), which is accepted at more than 250,000 authorized retailers nationwide. For nearly two decades, SNAP participants have used EBT in person at retailers, where they swipe their card at checkout using a point of sale (POS) terminal and enter their personal identification number (PIN) to pay for their purchases.

The Agricultural Act of 2018 (2018 Farm Bill) authorized the use of mobile payments from devices like cell phones, tablets, and smart watches, as an alternate option to a physical electronic benefit transfer (EBT) card to conduct a SNAP transaction. This authorization was subject to the result of five mobile payment pilot projects. Mobile payments may improve the customer experience; save participant and retailer time; reduce potential stigma of using EBT; reduce costs; and prevent benefit fraud, loss, or theft.

Need and Use of the Information: The Mobile Payment Pilot Evaluation will assess the effects of the pilots, using information obtained from FNS, selected State SNAP agencies, retailers, and SNAP participants. The evaluation has four objectives: (1) assessing the implementation of the pilots, (2) examining the adoption and use of mobile technologies, (3) understanding implications for program integrity, and (4) assessing replicability and costs. In each of the five sites, the evaluation will conduct three rounds of semi-structured interviews with State SNAP agencies, EBT processors, retailers, and other partners. Interviews will occur during the pilot planning period and once the pilots are implemented, and will collect information about the pilot design and implementation.

Description of Respondents: State and Local Government, Individuals and Households, Businesses or other For- Profit and Not-for-Profit.

Number of Respondents: 33,746.

Frequency of Responses: Reporting: Once.

Total Burden Hours: 8,726.87.

Ruth Brown,
Departmental Information Collection Clearance Officer.

[FR Doc. 2023-28334 Filed 12-22-23; 8:45 am]

BILLING CODE 3410-30-P